DEPARTMENT OF AGRICULTURE

Commodity Credit Corporation

Farm Service Agency

Notice of Intent To Prepare a Programmatic Environmental Impact Statement for the Biomass Crop Assistance Program

AGENCY: Commodity Credit Corporation and Farm Service Agency, USDA.

ACTION: Notice of Intent (NOI); request for comments.

SUMMARY: This notice announces that the Farm Service Agency (FSA), on behalf of the Commodity Credit Corporation (CCC), intends to prepare a Programmatic Environmental Impact Statement (PEIS) as required by the National Environmental Policy Act of 1969 (NEPA). The PEIS will assess the potential environmental consequences associated with proposed discretionary changes to the Biomass Crop Assistance Program (BCAP). This notice informs the public of FSA's intent to seek public comment on potential changes being considered for BCAP and on any environmental concerns related to the proposed changes. The input we receive as a result of this notice will enable us to develop alternatives for implementing the proposed changes to BCAP and begin to evaluate the impacts of those alternatives, as required by NEPA.

DATES: We will consider comments that we receive by July 13, 2015. Comments received after this date will be considered to the extent possible.

ADDRESSES: We invite you to submit comments on this NOI. In your comments, include the volume, date, and page number of this issue of the Federal Register. You may submit comments by any of the following methods:

• Federal eRulemaking Portal: Go to http://www.regulations.gov. Follow the online instructions for submitting comments;

• Email: BCAPComments@cardno-gs.com

• Online: Go to http://bcappeis.com. Follow the online instructions for submitting comments.

• Fax: (757) 594-1469.

• Mail, Hand Delivery, or Courier: BCAP PEIS, c/o Cardno TEC, Inc., 11817 Canon Blvd., Suite 300, Newport News, VA 23606.

All written comments will be available for inspection online at www.regulations.gov and in the Office of the Director, Conservation and Environmental Programs Division, FSA, USDA, 1400 Independence Ave SW., Room 4709, South Building, Washington, DC, 20250, between 8 a.m. and 4:30 p.m., Monday through Friday, except holidays. A copy of this notice is available through the FSA homepage at http://www.fsa.usda.gov.

FOR FURTHER INFORMATION CONTACT: Nell Fuller, National Environmental Compliance Manager, USDA, FSA, CEPD, Stop 0513, 1400 Independence Ave, SW., Washington, DC, 20250-0513, telephone: (202) 720-6303. Persons with disabilities who require alternative means for communication should contact the USDA Target Center at (202) 720-2600 (voice and TDD).

SUPPLEMENTARY INFORMATION: As required by NEPA (42 U.S.C. 4321-4347), the Council on Environmental Quality (CEQ) Regulations for Implementing the Procedural Provisions of NEPA (40 CFR parts 1500-1508), and FSA's NEPA compliance regulations (7 CFR part 799), FSA intends to assess potential discretionary changes to BCAP in 2015 by preparing a PEIS. The purpose of the PEIS process is to provide FSA decision makers, other agencies, Tribes, and the public with an analysis of the potential beneficial, adverse, and cumulative environmental impacts associated with proposed discretionary changes to BCAP.

BCAP was first authorized by the Food, Conservation, and Energy Act of 2008 (the 2008 Farm Bill, Pub. L. 110-246). BCAP is a voluntary program that is intended to assist agricultural and forest land owners and operators with the establishment and production of eligible crops in selected project areas for conversion to bioenergy. Additionally, BCAP provides matching payments for the collection, harvest, storage and transportation of eligible material to designated biomass conversion facilities for use as heat, power, biobased products, research, or advanced biofuels. BCAP is administered by FSA on behalf of CCC with the support of other Federal and local agencies. More detailed information on BCAP may be obtained at http://www.fsa.usda.gov/bcap.

Since BCAP was initially authorized, FSA has completed extensive NEPA analysis relating to BCAP and to specific project areas and feedstocks. In 2010, a Final Programmatic Environmental Impact Statement (PEIS) for BCAP was published by FSA and resulted in a Record of Decision (ROD) that was signed on October 27, 2010. That PEIS evaluated environmental consequences of establishing and administering the BCAP as specified in the 2008 Farm Bill. The PEIS examined the environmental consequences of two alternatives: Targeted BCAP Implementation and Broad BCAP Implementation. Since 2010, Environmental Assessments (EA) have been prepared for various project areas and for specific feedstocks.

The Agricultural Act of 2014 (the 2014 Farm Bill, Pub. L. 113-79) amended and reauthorized BCAP through 2018. The 2014 Farm Bill included a number of non-discretionary changes to BCAP. Those changes are primarily administrative in nature and do not alter the general scope of the program. The 2014 Farm Bill changes have already been implemented through rulemaking (80 FR 10569-10575) and do not require additional analysis under NEPA.

FSA is currently considering discretionary changes to the way BCAP is implemented. Those discretionary changes define the scope of the new PEIS for which this NOI applies. The new PEIS that will be prepared for the proposed discretionary changes to BCAP will tie to the other applicable BCAP NEPA documentation as appropriate and will examine only those aspects of the program that are not covered in previous analyses. Copies of all FSA NEPA documents can be found at: http://www.fsa.usda.gov/nepa.

Proposed Changes

FSA is proposing several discretionary changes to further improve the functionality and flexibility of the establishment and annual payments part of BCAP. No discretionary changes are being proposed for the matching payments part of BCAP. The proposed changes include:

• Consideration and review of additional crops including: pongamia pinnata, giant miscanthus seeded and rhizome clones, giant reed (Arundo donax), pennycress (Thlaspi arvense), energy cane (Saccharum spp.), biomass sorghum, sweet sorghum, yellowhorned fruit tree, eastern cottonwood (Populus deltoides), kenaf, jatropha, eucalyptus (fast growing), castor beans (Ricinus communis), short rotation pine, tropical maize, hybrid willow, sweetgum, black locust, loblolly pine, aspen, rubber rabbitbrush (Ericameria nauseosa) and guayule (Parthenium argentatum).

• Requirements or additional practices for conservation plans on expiring Conservation Reserve Program (CRP) or Agricultural Conservation Easement Program (ACEP) land acres that would be enrolled in BCAP project areas.

• Potential for enrolling annual crops in BCAP project areas for contracts of less than five years.

• Program management processes that could help offset the lack of crop insurance for biomass crops or provide sufficient information for the Noninsured Crop Disaster Assistance Program (NAP) to establish coverage.

• Treatment of the required FSA annual rental reductions in the event of no bioenergy market end use (conversion to heat, power, advance biofuel or biobased product) for the harvested or collected biomass crops.

FSA will conduct scoping meetings to provide information on the proposed changes to BCAP and to solicit input from program participants, the public, and other stakeholders on the environmental impacts of these changes and alternatives to these changes. FSA will hold five scoping meetings. Each meeting will begin with an Open House (6 p.m.-6:30 p.m.) followed by a presentation (6:30 p.n.-7 p.m.). At the conclusion of the presentation FSA will accept verbal comments and answer questions. Times and locations are provided in the table below.

Table 1—Public Meeting Dates, Times, and Locations*
Date | Time | Location
July 14, 2015 | 6 p.m.-8 p.m. | Hilton Garden Inn Sacramento/South Natomas, 2540 Venture Oaks Way, Sacramento, CA 95833.
July 15, 2015 | 6 p.m.-8 p.m. | Pacific Beach Hotel, 2490 Kalakaua Avenue, Honolulu, HI 96815.
August 3, 2015 | 6 p.m.-8 p.m. | Hampton Inn & Suites Raleigh-Durham Airport, 8021 Acro Corporate Drive, Raleigh, NC 27617.
August 4, 2015 | 6 p.m.-8 p.m. | Orlando Airport Marriott Lakeside, 7499 Augusta National Drive, Orlando, FL 32822.
August 5, 2015 | 6 p.m.-8 p.m. | Holiday Inn Sioux City, 701 Gordon Drive, Sioux City, IA 51101.
* The five public meeting locations were chosen for the purposes of allowing public input from communities where BCAP has an existing project area or where FSA is aware that project area planning is in underway.

Under NEPA, the PEIS process provides a means for the public to provide input on implementation alternatives and environmental concerns for federal actions and programs. This notice informs the public of FSA's intent to prepare a PEIS for discretionary changes to BCAP, and provides notice of the opportunity for public input on the proposed discretionary changes. The PEIS will provide an analysis that evaluates program effects in appropriate contexts, describes the intensity of adverse as well as beneficial environmental impacts, and addresses the cumulative environmental impacts associated with the proposed changes to BCAP. There will be additional opportunities for public comment on the draft PEIS when it is developed. The final PEIS and subsequent Record of Decision will be used by FSA decision-makers in implementing changes to BCAP.

Signed in Washington, DC, on June 9, 2015.
Val Dolcini,
Executive Vice President, Commodity Credit Corporation, and Administrator, Farm Service Agency.

[FR Doc. 2015-14393 Filed 6-11-15; 8:45 am]

BILLING CODE 3410-05-P